DEPARTMENT OF THE INTERIOR

Bureau of Land Management

[LLES 912 000 L1430 0000 PN0000]

Bureau of Land Management's Eastern States Office Relocating; Limited Access to Public Room During Move

AGENCY: Bureau of Land Management, Interior.

ACTION: Notice.

SUMMARY: The Bureau of Land Management's Eastern States Office will move to a new location and close access to its Public Room from January 14, 2015 to January 23, 2015. Some services and limited access to records will be available at the new location from January 26, 2015 through March 2, 2015. Updates regarding records access will be posted on the Eastern States Web site at http://www.blm.gov/es/st/en.html.

DATES: The relocation will occur on January 15, 2015.

ADDRESSES: The new office location is 20 M Street SE., Washington, DC 20003.

FOR FURTHER INFORMATION CONTACT: Monique McDonald-Harris, Deputy State Director for Business Resources, (202) 912-7750; email to: m1mcdona@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Mail sent via the U.S. Postal Service addressed to the BLM Eastern States office's old address, 7450 Boston Blvd., Springfield, Virginia, will be forwarded to 20 M Street SE., Washington, DC 20003.

John F. Ruhs,
State Director.

[FR Doc. 2015-00455 Filed 1-13-15; 8:45 am]

BILLING CODE 4310-GJ-P